DEPARTMENT OF STATE

[Public Notice 7658; Cyprus Docket No. DOS-2011-0135; Peru Docket No. DOS-2011-0136]

Notice of Meeting of the Cultural Property Advisory Committee

There will be a meeting of the Cultural Property Advisory Committee January 17-20, 2012, at the Department of State, Annex 5, 2200 C Street NW., Washington, DC Portions of this meeting will be closed to the public, as discussed below.

During the closed portion of the meeting, the Committee will review the proposal to extend cultural property memoranda of understanding with Cyprus, Memorandum of Understanding Between the Government of the United States of America and the Government of the Republic of Cyprus Concerning the Imposition of Import Restrictions on Pre-Classical and Classical Archaeological Objects and Byzantine Period Ecclesiastical and Ritual Ethnological Material [Docket No. DOS-2011-0135], and with Peru Memorandum of Understanding Between the Government of the United States of America and the Government of the Republic of Peru Concerning the Imposition of Import Restrictions on Archaeological Material From Pre-Hispanic Cultures and Certain Ethnological Material From the Colonial Period of Peru [Docket No. DOS-2011-0136].

An open session to receive oral public comment on these two proposals will be held on Wednesday, January 18, 2012, 9:00 to 11:30 a.m. EST.

Also during the closed portion of the meeting, the Committee will continue its review of a new cultural property request from the Government of the Republic of Belize seeking import restrictions on Pre-Columbian and Spanish Colonial archaeological material. Please see the link to the Public Summary of this request at http://exchanges.state.gov/heritage/whatsnew.html.

The Committee's responsibilities are carried out in accordance with provisions of the Convention on Cultural Property Implementation Act (19 U.S.C. 2601 et seq.). The text of the Act and subject MOUs, as well as related information, may be found at http://exchanges.state.gov/heritage/culprop.html.

If you wish to attend the open session on January 18, 2012, you should notify the Cultural Heritage Center of the Department of State at (202) 632-6301 no later than 5 p.m. (EST) January 3, 2012, to arrange for admission. Seating is limited. When calling, please specify if you have special accommodation needs.

If you wish to make an oral presentation at the open session, you must request to be scheduled and must submit a written text of their oral comments, ensuring that it is received no later than January 3, 2012, 11:59 p.m. (EST) to allow time for distribution to Committee members prior to the meeting. Oral comments will be limited to allow time for questions from members of the Committee. All oral and written comments must relate specifically to the determinations under Section 303(a)(1) (19 U.S.C. 2602) of the Convention on Cultural Property Implementation Act, pursuant to which the Committee must make findings. This statute can be found at the Web site noted above.

You may also send written comments to the Committee. Again, your comments must relate specifically to the determinations under Section 303(a)(1) (19 U.S.C. 2602) of the Convention on Cultural Property Implementation Act, pursuant to which the Committee must make findings. Addresses: Submit all written materials, including the written texts of oral statements, via regular mail, commercial delivery, or hand delivery; or electronically through the eRulemaking Portal. If more than three (3) pages, 20 paper copies of written materials must be sent to the address below by commercial delivery. If you have access to the internet and wish to make a comment of three or fewer pages regarding this Public Notice, please use the Federal eRulemaking Portal (see below). Our adoption of this procedure facilitates public participation, implements Section 206 of the E-Government Act of 2002, Public Law 107-347, 116 Stat. 2915, and supports the Department of State's “Greening Diplomacy” initiative which aims to reduce the State Department's environmental footprint and reduce costs. Please note that comments by fax or by email will no longer be accepted.

Please submit comments only one time.

• Regular Mail or Commercial Delivery. Cultural Heritage Center (ECA/P/C), SA-5, Fifth Floor, Department of State, Washington, DC 20522-0505.

• Hand Delivery. Cultural Heritage Center (ECA/P/C), Department of State, 2200 C Street NW., Washington, DC 20522-0505.

• Electronic Delivery. To submit comments electronically, go to the Federal eRulemaking Portal (http://www.regulations.gov), enter the Docket No. DOS-2011-0135 for Cyprus or Docket No. DOS-2011-0136 for Peru, and follow the prompts to submit a comment. For further information, see http://exchanges.state.gov/heritage/whatsnew.html.

Are Comments Private? No. Comments submitted in electronic form will be posted on the site http://www.regulations.gov. Because the comments cannot be edited to remove any identifying or contact information, the Department of State cautions against including any information in an electronic submission that one does not want publicly disclosed (including trade secrets and commercial or financial information that is privileged or confidential pursuant to 19 U.S.C. 2605(i)(1)). The Department of State requests that any party soliciting or aggregating comments received from other persons for submission to the Department of State inform those persons that the Department of State will not edit their comments to remove any identifying or contact information, and that they therefore should not include any information in their comments that they do not want publicly disclosed.

On Closed Meetings: As noted above, portions of the meeting will be closed pursuant to 5 U.S.C. 552b(c)(9)(B) and 19 U.S.C. 2605(h), the latter of which stipulates that “The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the government's negotiation objectives or bargaining positions on the negotiations of any agreement authorized by this title.” The President's designee has made such a determination.

Dated: November 30, 2011.
Adam Ereli,
Acting Assistant Secretary, Bureau of Educational and Cultural Affairs, Department of State.

[FR Doc. 2011-31408 Filed 12-6-11; 8:45 am]

BILLING CODE 4710-05-P